DEPARTMENT OF COMMERCE

International Trade Administration

[A-475-818]

Certain Pasta From Italy: Notice of Amended Final Results of the Thirteenth Antidumping Duty Administrative Review

AGENCY: Import Administration, International Trade Administration, Department of Commerce.

SUMMARY: On December 27, 2010, the Department of Commerce (the Department) published its final results of the thirteenth administrative review of the antidumping duty order on certain pasta from Italy for the period of review (POR) of July 1, 2008, through June 30, 2009. See Certain Pasta from Italy: Notice of Final Results of the Thirteenth Antidumping Duty Administrative Review, 75 FR 81212 (December 27, 2010) (Final Results). We are amending our final results to correct ministerial errors made in the calculation of the dumping margin for Pastificio Attilio Mastromauro-Pasta Granoro S.r. L. (Granoro), pursuant to section 751(h) of the Tariff Act of 1930, as amended (the Act).

DATES: Effective Date: February 7, 2011.

FOR FURTHER INFORMATION CONTACT: Jolanta Lawska, AD/CVD Operations, Office 3, Import Administration, International Trade Administration, U.S. Department of Commerce, 14th Street and Constitution Avenue, NW., Washington, DC 20230; telephone: (202) 482-8362.

SUPPLEMENTARY INFORMATION:

Background

On December 15, 2010, the margin calculations were released to Granoro.¹ On December 17, 2010, pursuant to 19 CFR 351.224(c), Granoro submitted comments alleging ministerial errors, and requested that the Department correct alleged ministerial errors. No party submitted comments regarding Granoro's request to correct the alleged ministerial errors.

¹ On December 27, 2010, the Department published the Final Results of this administrative review.

Scope of the Order

Imports covered by this order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of this order are refrigerated, frozen, or canned pastas, as well as all forms of egg pasta, with the exception of non-egg dry pasta containing up to two percent egg white. Also excluded are imports of organic pasta from Italy that are accompanied by the appropriate certificate issued by the Instituto Mediterraneo Di Certificazione, by QC&I International Services, by Ecocert Italia, by Consorzio per il Controllo dei Prodotti Biologici, by Associazione Italiana per l'Agricoltura Biologica, by Codex S.r.L., by Bioagricert S.r.L., or by Instituto per la Certificazione Etica e Ambientale. Effective July 1, 2008, gluten free pasta is also excluded from this order. See Certain Pasta from Italy: Notice of Final Results of Antidumping Duty Changed Circumstances Review and Revocation, in Part, 74 FR 41120 (August 14, 2009). The merchandise subject to this order is currently classifiable under items 1902.19.20 and 1901.90.9095 of the Harmonized Tariff Schedule of the United States (HTSUS). Although the HTSUS subheadings are provided for convenience and customs purposes, the written description of the merchandise subject to the order is dispositive.

Amended Final Results of Review

After analyzing Granoro's comments, we have determined, in accordance with section 751(h) of Act and 19 CFR 351.224, that the Department made a ministerial error in the Final Results calculation for Granoro regarding its reported transportation recovery expense (TRANSPRECU). See Allegation of Ministerial Errors Memorandum, dated January 28, 2011 (Ministerial Errors Memo). The Department finds that in the Final Results, we correctly stated that, consistent with our practice, we capped the transportation recovery amounts by the amount of U.S. freight expenses, incurred on subject merchandise; however, we did not implement this adjustment in the calculation of Granoro's margin program in the Final Results. See Final Results and accompanying Issues and Decision Memorandum, at page 8 (Issues and Decision Memorandum). Therefore, the Department finds that it inadvertently did not offset U.S. freight expense based on the amount of transportation recovery expense reported by Granoro. Accordingly, the Department's failure to make this adjustment was a clerical error. See section 751(h) of the Act. For these amended final results, the Department made these changes to Granoro's margin calculations as correctly explained in the final results. As a result, for the amended final results of this administrative review the average margin for Granoro has changed from 0.80 to 0.47 (de minimis).

In addition, Granoro alleged that the Department made a ministerial error with respect to the financial expense ratio (INTEX) used in the calculation of Granoro's antidumping duty margin. We have determined, in accordance with section 751(h) of Act and 19 CFR 351.224, that the Department did not make a ministerial error in the Final Results in the Department's calculation of the financial expense ratio. In the Final Results, the Department correctly stated that we adjusted the cost of goods sold denominator used to calculate the general and administrative (G&A) and financial expense ratios to include expenses for Granoro's testing of pasta. See Issues and Decision Memorandum at pages 10-11.² However, while this adjustment changed the G&A expense ratio, the financial expense ratio did not change as the result of the adjustment. Therefore, no correction to the SAS programming was necessary with respect to the financial expense ratio for the final results.

² See also Memorandum to Neal M. Halper from Ernest Z. Gziryan: Cost of Production and Constructed Value Calculation Adjustments for the Final Results—Pastificio Attilio Mastromauro—Pasta Granoro S.r.L., dated December 14, 2010 (Final Cost Calculation Memo).

In accordance with section 751(h) of the Act, we are amending the final results of the antidumping duty administrative review of certain pasta from Italy for the period July 1, 2008, through June 30, 2009. As a result of correcting the ministerial errors discussed above, and in the company-specific memo listed above, the following margin applies:

Company | Final margin | Amended final margin
Granoro | 0.80 | 0.47 (de minimis).

The amended final results do not differ from the final results for Garofalo.

Assessment

The Department will determine, and U.S. Customs and Border Protection (CBP) shall assess, antidumping duties on all appropriate entries, pursuant to 19 CFR 351.212(b). The Department calculated importer-specific duty assessment rates on the basis of the ratio of the total antidumping duties calculated for the examined sales to the total entered value of the examined sales for that importer. Where the assessment rate is above de minimis, we will instruct CBP to assess duties on all entries of subject merchandise by that importer. The Department intends to issue appropriate assessment instructions directly to CBP 15 days after publication of these amended final results of review.

The Department clarified its “automatic assessment'” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the amended final results of this administrative review for all shipments of certain pasta from Italy entered, or withdrawn from warehouse, for consumption on or after the publication date of these amended final results, as provided by section 751(a) of the Act: (1) For companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 15.45 percent, the all-others rate established in the less-than-fair-value investigation. These deposit requirements shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also is the only reminder to parties subject to administrative protective order (APO) of their responsibility concerning the return or destruction of proprietary information disclosed under APO in accordance with 19 CFR 351.305. Timely written notification of the return/destruction of APO materials or conversion to judicial protective order is hereby requested. Failure to comply with the regulations and the terms of an APO is a sanctionable violation.

These amended final results of administrative review and notice are issued and published in accordance with sections 751(a)(1) and (h), and 777(i)(1) of the Act, and 19 CFR 351.224.

Dated: January 28, 2011.
Christian Marsh,
Acting Deputy Assistant Secretary for Import Administration.

[FR Doc. 2011-2614 Filed 2-4-11; 8:45 am]

BILLING CODE 3510-DS-P